DEPARTMENT OF HOUSING AND URBAN DEVELOPMENT

[Docket No. FR-7082-N-12]

60-Day Notice of Proposed Information Collection: Self-Help Homeownership Opportunity Program (SHOP); OMB Control No.: 2506-0157

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comment Due Date: February 7, 2025.

ADDRESSES: Interested persons are invited to submit comments regarding this proposal. Written comments and recommendations for the proposed information collection can be sent within 60 days of publication of this notice to www.regulations.gov. Interested persons are also invited to submit comments regarding this proposal by name and/or OMB Control Number and can be sent to: Colette Pollard, Reports Management Officer, REE, Department of Housing and Urban Development, 451 7th Street SW, Room 8210, Washington, DC 20410-5000; telephone (202) 402-3400 (this is not a toll-free number) or email at Colette.Pollard@hud.gov for a copy of the proposed forms or other available information.

FOR FURTHER INFORMATION CONTACT: Holly A. Kelly, Office of Rural Housing and Economic Development, Department of Housing and Urban Development, 451 Seventh Street SW, Room 7132, Washington, DC 20410-4500; email Holly.A.Kelly@hud.gov; telephone 202-402-6324. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Kelly.

SUPPLEMENTARY INFORMATION: This notice informs the public that HUD is seeking approval from OMB for the information collection described in Section A.

A. Overview of Information Collection

Title of Information Collection: Self-Help Homeownership Opportunity Program (SHOP).

OMB Approval Number: 2506-0157.

Type of Request: Extension of currently approved collection.

Form Number: SF-424; SF-424B; HUD 424 CB; HUD 424 CBW; SF-424D; HUD 425; HUD 425.1; HUD 2880; HUD 50153; SF-LLL/OMB 0348-00; SF-LLL/OMB 4040-0013; and Grant Reporting (Disaster Recover Grant Reporting/DRGR System).

Description of the need for the information and proposed use: This is a proposed information collection for submission requirements under the SHOP Notice of Funding Availability (NOFO) and post-award reporting requirements. HUD requires information to ensure the eligibility of SHOP applicants and the compliance of SHOP proposals, to rate and rank SHOP applications, and to select applicants for grant awards. Information is collected on an annual basis from each applicant that responds to the SHOP NOFO. The SHOP NOFO requires applicants to submit specific forms and narrative responses. HUD also requires semi-annual grant reporting post-award in order to ensure the SHOP grantees are complying with the terms of the Executed Grant Agreement.

Respondents: National and regional non-profit self-help housing organizations (including consortia) that apply for funds in response to the SHOP NOFO.

Frequency of Submission: Annually in response to the issuance of a SHOP NOFO. Semi-annually in response to post-award grant reporting.

Estimation of the Total Number of Hours Needed To Prepare the Information Collection Including Number of Respondents, Hours per Response, Frequency of Response, and Total Hours of Response for All Respondents

The estimates of the average hours needed to prepare the information collection are based on information provided by previous applicants and grantees. Actual hours will vary depending on the proposed scope of the applicant's/grantee's program, the applicant's/grantee's geographic service area and the number of affiliate organizations. The information burden is generally greater for national organizations with numerous affiliates.

Information collection | Number of respondents | Frequency of response | Responses per annual | Burden hour per response | Annual burden hours | Hourly cost per response | Annual cost
Application for Federal Assistance SF-424 | 10.00 | 1.00 | 10.00 | 1.00 | 10.00 | $82.38 | $823.80
Assurances for Non-Construction Program SF-424B | 10.00 | 1.00 | 10.00 | 0.50 | 5.00 | 82.38 | 411.90
Assurances for Construction Programs SF-424D | 10.00 | 1.00 | 10.00 | 0.50 | 5.00 | 82.38 | 411.90
Certification Regarding Lobbying SF-LLL/OMB 0348-0046 | 10.00 | 1.00 | 10.00 | 0.50 | 5.00 | 82.38 | 411.90
Disclosure of Lobbying Activities SF-LLL/OMB 4040-0013 | 10.00 | 1.00 | 10.00 | 0.50 | 5.00 | 82.38 | 411.90
Grant Application Detailed Budget HUD-424CB | 10.00 | 1.00 | 10.00 | 1.00 | 10.00 | 82.38 | 823.80
Grant Application Detailed Budget Worksheet HUD-424CBW | 10.00 | 1.00 | 10.00 | 1.00 | 10.00 | 82.38 | 823.80
Rural Equity Preference Points HUD-425 | 10.00 | 1.00 | 0 | 0 | 0 | 82.38 | 0
Rural Partners Network Certification Instructions HUD-425.1 | 10.00 | 1.00 | 0 | 0 | 0 | 82.38 | 0
Applicant Recipient Disclosure Update Report HUD-2880 | 10.00 | 1.00 | 10.00 | .50 | 5.00 | 82.38 | 411.90
Promise Zone Certification HUD 50153 | 10.00 | 1.00 | 10.00 | .50 | 5.00 | 82.38 | 411.90
Applicant Eligibility | 10.00 | 1.00 | 10.00 | 2.00 | 20.00 | 82.38 | 1,647.60
SHOP Program Design and Scope of Work | 10.00 | 1.00 | 10.00 | 30.00 | 300.00 | 82.38 | 24,714.00
Rating Factor1 | 10.00 | 1.00 | 10.00 | 25.00 | 250.00 | 82.38 | 20,595.00
Rating Factor 2 | 10.00 | 1.00 | 10.00 | 30.00 | 300.00 | 82.38 | 24,714.00
Rating Factor 3 | 10.00 | 1.00 | 10.00 | 55.00 | 550.00 | 82.38 | 45,309.00
Rating Factor 4 | 10.00 | 1.00 | 10.00 | 30.00 | 300.00 | 82.38 | 24,714.00
Rating Factor 5 | 10.00 | 1.00 | 10.00 | 25.00 | 250.00 | 82.38 | 20,595.00
Grant Reporting (DRGR) | 4.00 | 2.00 | 4.00 | 100.00 | 400.00 | 82.38 | 32,952.00
Total Annual Hour Burden |  |  |  | 303 | 2,430.00 |  | 200,183.40
Note: Hourly cost per response was updated from the FY2021 rate of $70.45 to the FY2024 hourly cost per response rate of $82.38.

B. Solicitation of Public Comments

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3506 of the Paperwork Reduction Act of 1995, 44 U.S.C. chapter 35, as amended.

Marion M. McFadden,
Principal Deputy Assistant Secretary for Community Planning and Development.

[FR Doc. 2024-28853 Filed 12-6-24; 8:45 am]

BILLING CODE 4210-67-P